ENVIRONMENTAL PROTECTION AGENCY

[EPA-HQ-OPPT-2016-0125; FRL-9943-74]

Agency Information Collection Activities; Proposed New Collection (EPA ICR No. 2532.01); Comment Request

AGENCY: Environmental Protection Agency (EPA).

ACTION: Notice.

SUMMARY: In compliance with the Paperwork Reduction Act (PRA), this document announces that EPA is planning to submit an Information Collection Request (ICR) to the Office of Management and Budget (OMB). The ICR, entitled: “Use of Mercury and Mercury Compounds in Products and Processes” and identified by EPA ICR No. 2532.01 and OMB Control No. 2070-NEW, represents a new request. Before submitting the ICR to OMB for review and approval, EPA is soliciting comments on specific aspects of the proposed information collection that is summarized in this document. The ICR and accompanying material are available in the docket for public review and comment.

DATES: Comments must be received on or before May 31, 2016.

ADDRESSES: Submit your comments, identified by docket identification (ID) number EPA-HQ-OPPT-2016-0125, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Sue Slotnick, National Program Chemicals Division (7404T), Office of Pollution Prevention and Toxics, Environmental Protection Agency, 1200 Pennsylvania Ave. NW., Washington, DC 20460-0001; telephone number: (202) 566-1973; email address: slotnick.sue@epa.gov.

For general information contact: The TSCA-Hotline, ABVI-Goodwill, 422 South Clinton Ave., Rochester, NY 14620; telephone number: (202) 554-1404; email address: TSCA-Hotline@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected. In particular, EPA seeks comment on these aspects of the questionnaire:

• Are there additional products or product categories that should be included in the questionnaire?

• Are there additional products or product categories that should be eliminated from the questionnaire?

• Should the questionnaire ask respondents to identify which products are intended solely as replacement parts?

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Use of Mercury and Mercury Compounds in Products and Processes.

ICR number: EPA ICR No. 2532.01.

OMB control number: OMB Control No. 2070-NEW.

ICR status: This ICR is for a new information collection activity. An Agency may not conduct or sponsor, and a person is not required to respond to, a collection of information, unless it displays a currently valid OMB control number. The OMB control numbers for EPA's regulations in title 40 of the Code of Federal Regulations (CFR), after appearing in the Federal Register when approved, are listed in 40 CFR part 9, and are displayed either by publication in the Federal Register or by other appropriate means, such as on the related collection instrument or form, if applicable. The display of OMB control numbers for certain EPA regulations is consolidated in 40 CFR part 9.

Abstract: The U.S. EPA is making efforts to reduce the non-essential use of mercury and mercury compounds in products and certain manufacturing processes to prevent future releases of mercury to the environment. After negotiating and joining a global agreement called the Minamata Convention on Mercury, EPA continues to pursue measures to reduce the use of mercury in various media. EPA has determined that significant data gaps exist that prevent the Agency from taking systematic, strategic, and effective actions to reduce the use of mercury and mercury compounds in order to prevent potential releases to the environment.

To close such data gaps, EPA will collect information from persons who process, import, and/or export mercury or mercury-added products. In addition, EPA will request information from persons who process mercury or mercury compounds for use in certain industrial processes. EPA is particularly interested in the amount of mercury or mercury compounds used in mercury-added products as a whole and among various categories of products, including mercury or mercury compounds that are added during domestic manufacture, as well as contained in imported and exported products.

Initially this will be a one-time information collection, but EPA may request subsequent renewals of OMB approval of the information collection as necessary. Information will be collected from companies that manufacture, import, or export a product or products containing mercury or mercury compounds, or companies that use mercury or mercury compounds in a manufacturing process or processes. EPA will request that companies voluntarily submit responses to a questionnaire during a period of 60 days after OMB approves the proposed collection. Thereafter, EPA will issue formal measures under section 11 of the Toxic Substances Control Act (TSCA) to obtain the information if appropriate. EPA anticipates that the information collection activity will involve 250 private entities, although the number of entities may be as high as 646. The years of interest are 2010, 2013, and 2016.

EPA will use the collected information to determine whether and if so what type of actions, including voluntary and/or mandatory measures, are needed to reduce non-essential use of mercury or mercury compounds. The Agency will also use such information to prioritize where and how EPA applies measures in order to help prevent potential risks of mercury exposure to human health and the environment. In addition, this information will be used to facilitate compliance with obligations of the United States under the Minamata Convention to continue to reduce the use of mercury in products and processes and to report on actions taken to do so.

Responses to the collection of information are voluntary. However, should EPA initiate TSCA section 11 actions to compel submission of information, those responses would be mandatory. Respondents may claim all or part of a notice confidential. EPA will disclose information that is covered by a claim of confidentiality only to the extent permitted by, and in accordance with, the procedures in TSCA section 14 and 40 CFR part 2.

Burden statement: The annual public reporting and recordkeeping burden for this collection of information is estimated to average 9.9 hours per response. Burden is defined in 5 CFR 1320.3(b).

The ICR, which is available in the docket along with other related materials, provides a detailed explanation of the collection activities and the burden estimate that is only briefly summarized here:

Respondents/Affected Entities: Entities potentially affected by this ICR are persons who process mercury or mercury compounds for use in the production of mercury-added products, import mercury for use in the production of mercury-added products, import mercury-added products, export mercury-added products, and/or process mercury or mercury compounds for use in certain industrial processes.

Estimated total number of potential respondents: 646.

Frequency of response: One time.

Estimated total average number of responses for each respondent: 1.0.

Estimated total annual burden hours: 6,399 hours.

Estimated total annual costs: $444,430. This includes an estimated burden cost of $444,430 and an estimated cost of $0 for capital investment or maintenance and operational costs.

III. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the technical person listed under FOR FURTHER INFORMATION CONTACT.

Authority: 44 U.S.C. 3501 et seq.

Dated: March 23, 2016.
James Jones,
Assistant Administrator, Office of Chemical Safety and Pollution Prevention.

[FR Doc. 2016-07174 Filed 3-29-16; 8:45 am]

BILLING CODE 6560-50-P